DEPARTMENT OF THE INTERIOR

Bureau of Land Management

43 CFR Part 3160

[WO-310-1310-PB-24 1A]

RIN 1004-AC54

Oil and Gas Leasing: Onshore Oil and Gas Operations

AGENCY: Bureau of Land Management, Interior.

ACTION: Final rule; delay of effective date.

SUMMARY: The Bureau of Land Management (BLM) is further delaying the effective date to remove 43 CFR 3162.2(a) and to add 43 CFR 3162.2-7 until November 6, 2001.

DATES: The effective date to remove 43 CFR 3162.2(a) and to add 43 CFR 3162.2-7 was originally published in a final rule in the Federal Register on January 10, 2001 (66 FR 1883). The effective date was delayed in Federal Register documents published on February 8, 2001 (66 FR 9527) and April 10, 2001 (66 FR 18569). This document further delays the effective date for 90 days to November 6, 2001.

FOR FURTHER INFORMATION CONTACT: Donnie Shaw, Fluid Minerals Group, Bureau of Land Management, Mail Stop 401LS, 1849 “C” Street, NW., Washington, DC 20240; telephone (202) 452-0382 (Commercial or FTS). Persons who use a telecommunications device for the deaf (TDD) may call the Federal Information Relay Service (FIRS) at 1-800-877-8330, 24 hours a day, seven days a week, except holidays, for assistance in reaching Mr. Shaw.

SUPPLEMENTARY INFORMATION: To the extent that 5 U.S.C. 553 applies to this action, the action is exempt from notice and comment because it constitutes a rule of procedure under 5 U.S.C. 553(b)(A). Alternatively, we find pursuant to 5 U.S.C. 553(b)(3)(b) that the provision of an opportunity for public comment on whether to delay the effective date of the rule is impracticable and unnecessary inasmuch as the Department cannot adequately review the comments previously filed and reach a conclusion before August 8, 2001. The Department sought public comment on specific components of the rule in the Federal Register notice published on April 10, 2001. We received several highly technical comments and cannot complete the review before August 8, 2001. The Department is further delaying the effective date to November 6, 2001, to provide for continued review.

Dated: July 31, 2001.
J. Steven Griles,
Deputy Secretary of the Interior.

[FR Doc. 01-19669 Filed 8-6-01; 8:45 am]

BILLING CODE 4310-84-P